DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been removed from OFAC's Specially Designated Nationals and Blocked Persons List (SDN List). Their property and interests in property are no longer blocked, and U.S. persons are no longer generally prohibited from engaging in transactions with them.

DATES: See SUPPLEMENTARY INFORMATION section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On June 10, 2021, OFAC determined that the following individuals, who had been identified as persons whose property and interests in property were blocked pursuant to Executive Order 13599 of February 5, 2012, “Blocking Property of the Government of Iran and Iranian Financial Institutions,” should be removed from the SDN List and that the property and interests in property subject to U.S. jurisdiction of the following person are unblocked.

Individuals

1. BAZARGAN, Farzad; DOB 03 Jun 1956; Additional Sanctions Information—Subject to Secondary Sanctions; Passport D14855558 (Iran); alt. Passport Y21130717 (Iran); Managing Director, Hong Kong Intertrade Company (individual) [IRAN].

2. GHALEBANI, Ahmad (a.k.a. GHALEHBANI, Ahmad; a.k.a. QALEHBANI, Ahmad); DOB 01 Jan 1953 to 31 Dec 1954; Additional Sanctions Information—Subject to Secondary Sanctions; Passport H20676140 (Iran); Managing Director, National Iranian Oil Company; Director, Hong Kong Intertrade Company; Director, Petro Suisse Intertrade Company (individual) [IRAN].

3. MOINIE, Mohammad; DOB 04 Jan 1956; POB Brojerd, Iran; citizen United Kingdom; Additional Sanctions Information—Subject to Secondary Sanctions; Passport 301762718 (United Kingdom); Commercial Director, Naftiran Intertrade Company Sarl (individual) [IRAN].

Dated: June 10, 2021.
Bradley T. Smith,
Acting Director, Office of Foreign Assets Control, U.S. Department of the Treasury.

[FR Doc. 2021-12566 Filed 6-14-21; 8:45 am]

BILLING CODE 4810-AL-P